DEPARTMENT OF ENERGY

Federal Energy Regulatory Commission

[Docket No. EC05-21-000, et al.]

Reliant Energy Wholesale Generation, LLC, et al.; Electric Rate and Corporate Filings

November 29, 2004.

The following filings have been made with the Commission. The filings are listed in ascending order within each docket classification.

1. Reliant Energy Wholesale Generation, LLC

[Docket No. EC05-21-000]

Take notice that on November 23, 2004, Reliant Energy Wholesale Generation, LLC, (Applicant) submitted an application pursuant to section 203 of the Federal Power Act, seeking authorization for the disposition of the Applicant's jurisdictional assets that would result from a proposed transfer of certain generator interconnection facilities to the Nevada Power Company (NPC) and requesting expedited consideration of its Application and certain waivers. Applicant states that pursuant to an agreement entered into by Applicant's predecessor and NPC, Applicant's predecessor would construct the interconnection facilities and subsequently transfer ownership and control of the interconnection facilities to NPC. Applicant further states that transferring these facilities to NPC will allow NPC to operate the interconnection facilities in an integrated manner with its transmission system.

Comment Date: 5 p.m. eastern time on December 9, 2004.

2. PEI Power Corp.

[Docket No. ER98-2270-005]

Take notice that on November 22, 2004, PEI Power Corp. (PEI) submitted for filing an amendment to PEI's triennial updated market power analysis. PEI states that this analysis supports the continuation of PEI's authority to make sales at market-based rates. PEI also submits revisions to its market-based rate tariff, which incorporate a statement that PEI Power will not sell to any affiliate with a franchised electric service territory without first receiving approval from the Commission pursuant to a separate filing under section 205 of the Federal Power Act.

Comment Date: 5 p.m. eastern time on December 6, 2004.

3. California Independent System Operator Corporation, Pacific Gas and Electric Company, San Diego Gas & Electric Company v. California Independent System Operator Corporation

[Docket No. ER01-313-006, ER01-424-006, EL03-131-003]

Take notice that on November 22, 2004, California Independent System Operator Corporation (ISO), submitted a Notice of Withdrawal of its November 15, 2004, compliance refund report filed pursuant to the Commission's Orders in California Independent System Operator Corporation, 103 FERC ¶ 61,114 (2003); on reh'g, 106 FERC ¶ 61,032 (2004).

Comment Date: 5 p.m. eastern time on December 13, 2004.

4. AES Red Oak, L.L.C.

[Docket No. ER01-2401-002]

Take notice that on November 22, 2004, AES Red Oak, L.L.C. (Red Oak) submitted for filing its revised triennial market power update in compliance with the Commission's letter order issued November 20, 2001, in Docket No. ER01-2401-001, AEP Power Marketing, Inc., et al., 107 FERC ¶ 61,018, on reh'g, 108 FERC ¶ 61,026 (2004). Red Oak also submitted for filing amendments to its market-based rate tariff implementing six (6) new market behavior rules adopted by the Commission in Investigation of Terms and Conditions of Public Utility Market-Based Rate Authorization, 105 FERC ¶ 61,128 (2003). In addition, Red Oak submitted for approval a second revision to FERC Electric Tariff, Original Volume No. 1, and a second revision to Red Oak's Statement of Policy and Code of Conduct.

Comment Date: 5 p.m. eastern time on December 13, 2004.

5. Southern California Water Company

[Docket No. ER02-2400-002]

Take notice that on November 22, 2004, Southern California Water Company submitted a notice of change in status pursuant to the Commission's order granting market-based rate authority, Southern California Water Company, 100 FERC ¶ 61,373 (2002).

Comment Date: 5 p.m. eastern time on December 13, 2004.

6. ONEOK Energy Services Company, L.P.

[Docket No. ER03-10-003]

Take notice that on November 22, 2004, ONEOK Energy Services Company, L.P. (OSEC), formerly known as ONEOK Energy Marketing and Trading Company, L.P., submitted an amendment to its updated market power analysis filed on August 17, 2004.

Comment Date: 5 p.m. eastern time on December 13, 2004.

7. San Diego Gas & Electric Company

[Docket No. ER04-1126-001]

Take notice that on November 22, 2004, San Diego Gas & Electric Company (SDG&E) tendered for filing an errata to adjust its California Independent System Operator (CAISO) Base Transmission Revenue Requirements in accordance with approved revised tariff changes to its Transmission Formula Rate as reflected in its Transmission Owner Tariff, FERC Electric Tariff, Original Volume No. 11.

SDG&E states that copies of the filing have been served on the California Public Utilities Commission and the CAISO.

Comment Date: 5 p.m. eastern time on December 13, 2004.

8. AES Red Oak, L.L.C.

[Docket No. ER01-2401-002]

Take notice that on November 22, 2004, AES Red Oak, L.L.C. (Red Oak) submitted for filing its revised triennial market power update in compliance with the Commission's letter order issued November 20, 2001 in Docket No. ER01-2401-001, AEP Power Marketing, Inc., et al., 107 FERC ¶ 61,018, on reh'g, 108 FERC ¶ 61,026 (2004). Red Oak also submitted for filing amendments to its market-based rate tariff implementing six (6) new market behavior rules adopted by the Commission in Investigation of Terms and Conditions of Public Utility Market-Based Rate Authorization, 105 FERC ¶ 61,128 (2003). In addition, Red Oak submitted for approval a second revision to FERC Electric Tariff, Original Volume No. 1, and a second revision to Red Oak's Statement of Policy and Code of Conduct.

Comment Date: 5 p.m. eastern time on December 13, 2004.

9. Southern California Edison Company

[Docket No. ER04-1159-001]

Take notice that on November 22, 2004, Southern California Edison Company (SCE) submitted a compliance filing pursuant to the Commission's letter order issued October 27, 2004, in the Docket No. ER04-1159-000.

SCE states that copies of the filing were served on parties on the official service list in the above-captioned proceeding and on each affected customer.

Comment Date: 5 p.m. eastern time on December 13, 2004.

10. Midwest Independent Transmission System Operator, Inc., American Transmission Company LLC

[Docket No. ER04-1160-001]

Take notice that on November 24, 2004, the Midwest Independent Transmission System Operator, Inc. (Midwest ISO) and American Transmission Company, LLC (collectively, Applicants) submitted an amendment to their August 30, 2004, filing regarding proposed changes to the liability limitation provisions in the Midwest ISO's OATT. Midwest ISO states that the amendment was filed in response to the Commission's October 28, 2004, deficiency letter. In addition, Midwest ISO states that they have filed a Notice of Withdrawal of a proposed tariff sheet regarding a change to the Midwest ISO OATT's Indemnification provision that was submitted on August 30, 2004.

Midwest ISO states that they have served a copy of the filing upon all parties on the official service in this docket.

The Midwest ISO has also requested waiver of the service requirements set forth in 18 CFR 385.2010. The Midwest ISO has electronically served a copy of this filing, with attachments, upon all Midwest ISO Members, Member representatives of Transmission Owners and Non-Transmission Owners, the Midwest ISO Advisory Committee participants, as well as all State commissions within the region. In addition, the filing has been electronically posted on the Midwest ISO's Web site at http://www.midwestiso.org under the heading “Filings to FERC” for other interested parties in this matter. The Midwest ISO will provide hard copies to any interested parties upon request.

Comment Date: 5 p.m. eastern time on December 7, 2004.

11. Southern Company Services, Inc.

[Docket No. ER04-1161-002]

Take notice that on November 22, 2004, Southern Company Services, Inc. (SCS), on behalf of Alabama Power Company, Georgia Power Company, Gulf Power Company, Mississippi Power Company and Savannah Electric and Power Company (collectively Southern Companies), submitted a compliance filing pursuant to the Commission's order issued October 22, 2004, in Docket No. ER04-1161.

SCS states that copies of the filing were served on parties on the official service list in the above-captioned proceeding.

Comment Date: 5 p.m. eastern time on December 13, 2004.

12. Wisconsin Public Service Corporation

[Docket No. ER05-245-000]

Take notice that on November 22, 2004, Wisconsin Public Service Corporation (WPSC) tendered for filing a revised rate schedule sheet (Revised Sheet) in Exhibit G to WPSC's rate schedule with the City of Marshfield. The Revised Sheet modifies the capacity ratings of the West Marinette Unit 33. WPSC requests an effective date of January 1, 2005.

WPSC states that copies of the filing were served upon the City of Marshfield, the Public Service Commission of Wisconsin, and the Michigan Public Service Commission.

Comment Date: 5 p.m. eastern time on December 13, 2004.

13. Southern California Edison Company

[Docket No. ER05-246-000]

Take notice that on November 22, 2004, Southern California Edison Company (SCE) submitted for filing an Interconnection Facilities Agreement (Interconnection Agreement), Service Agreement No. 127, under SCE's Wholesale Distribution Access Tariff (WDAT), FERC Electric Tariff, First Revised Volume No. 5, and an associated Service Agreement for Wholesale Distribution Service (WDAT Service Agreement), Service Agreement No. 128, under the WDAT, between SCE and the City of Moreno Valley, California (Moreno Valley). SCE states that the purpose of the Interconnection Agreement and the WDAT Service Agreement is to specify the terms and conditions under which SCE will provide Wholesale Distribution Service from the California Independent System Operator Controlled Grid at SCE's Valley Substation to a new SCE-Moreno Valley 12 kV interconnection at Moreno Valley owned property located on the corner of Frederick Avenue and Alessandro Boulevard in the City of Moreno Valley, California.

SCE states that copies of the filing were served upon the Public Utilities Commission of the State of California and Moreno Valley.

Comment Date: 5 p.m. eastern time on December 13, 2004.

14. Western Systems Power Pool, Inc.

[Docket No. ER05-249-000]

Take notice that on November 22, 2004, the Western Systems Power Pool, Inc. (WSPP) requested the Commission to amend the WSPP Agreement to include Merrill Lynch Commodities, Inc. (MLCI) as a participant. WSPP requests an effective date of October 22, 2004.

WSPP states that copies of this filing will be served upon Keith Bailey, Chief Operating Officer of MLCI, and Catherine Krupka and Donna Sauter of McDermott Will & Emergy, counsel to MLCI. WSPP further states that in addition, copies will be emailed to WSPP members who have supplied e-mail addresses for the Contract Committee and Contacts lists which will reach most if not all active members. WSPP indicates that this filing also has been posted on the WSPP home page (http://www.wspp.org) thereby providing notice to all WSPP members.

Comment Date: 5 p.m. eastern time on December 13, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3465 Filed 12-3-04; 8:45 am]

BILLING CODE 6717-01-P